DEPARTMENT OF TRANSPORTATION

Federal Aviation Administration

Submission Deadline for Schedule Information for Chicago O'Hare International Airport, John F. Kennedy International Airport, Los Angeles International Airport, Newark Liberty International Airport, and San Francisco International Airport for the Winter 2016 Scheduling Season

AGENCY: Federal Aviation Administration (FAA), Department of Transportation.

ACTION: Notice, Schedule submission deadline.

SUMMARY: The FAA announces the submission deadline of May 19, 2016, for winter 2016 flight schedules at Chicago O'Hare International Airport (ORD), John F. Kennedy International Airport (JFK), Los Angeles International Airport (LAX), Newark Liberty International Airport (EWR), and San Francisco International Airport (SFO) in accordance with the International Air Transport Association (IATA) Worldwide Slot Guidelines (WSG) and FAA airport level designations. The deadline coincides with the schedule submission deadline for the IATA Slot Conference for the winter 2016 scheduling season.

DATES: Schedules must be submitted no later than May 19, 2016.

ADDRESSES: Schedules may be submitted by mail to the Slot Administration Office, AGC-200, Office of the Chief Counsel, 800 Independence Avenue SW., Washington, DC 20591; or by email to: 7-AWA-slotadmin@faa.gov.

FOR FURTHER INFORMATION CONTACT: Susan Pfingstler, System Operations Services, Air Traffic Organization, Federal Aviation Administration, 600 Independence Avenue SW., Washington, DC 20591; telephone number: 202-267-6462; email: susan.pfingstler@faa.gov.

SUPPLEMENTARY INFORMATION: The FAA has designated EWR, LAX, ORD, and SFO as IATA Level 2, schedule facilitated airports.¹ JFK is designated as an IATA Level 3, slot controlled airport.² At the Level 2 airports, proposed schedules are reviewed by the FAA to address significant, potential congestion before schedules are final. A runway slot is required from the FAA at JFK, a Level 3 airport, before a carrier operates during the slot controlled hours.

¹ The FAA's designation of EWR as Level 2 takes effect on October 30, 2016. 81 FR 19861 (Apr. 6, 2016). Through the Summer 2016 scheduling season, the FAA has designated EWR as Level 3 by Order, Operating Limitations at Newark Liberty International Airport, 73 FR 29550 (May 21, 2008) as amended 79 FR 16857 (March 26, 2014).

² The FAA limits flights at JFK during peak hours by Order, Operating Limitations at John F. Kennedy International Airport, 73 FR 3510 (Jan. 18, 2008) as amended. The FAA intends to extend the effective date of the Order to October 27, 2018. The extension will be published in a separate notice in the Federal Register.

The FAA is primarily concerned about scheduled and other regularly conducted commercial operations during peak hours, but carriers may submit schedule plans for the entire day. At ORD, the peak hours are 0700 to 2100 Central Time (1300 to 0300 UTC), at LAX and SFO from 0600 to 2300 Pacific Time (1400 to 0700 UTC), and at EWR and JFK from 0600 to 2300 Eastern Time (1100 to 0400 UTC). The FAA prefers schedule messages with the format and data elements in IATA Standard Schedules Information Manual (SSIM), Chapter 6, as recommended in the WSG. The FAA will also accept other mutually agreed schedule information formats; however, carriers should submit schedule information in sufficient detail including, at minimum, the operating carrier, flight number, scheduled time of operation, frequency, and effective dates.

The winter scheduling season is from October 30, 2016, through March 25, 2017, consistent with the IATA northern winter season. The FAA understands there may be differences in schedule times due to U.S. daylight saving time dates and will accommodate these differences to the extent possible.

Carriers operating at JFK or LAX should consider the potential impacts of runway construction projects as they develop schedules, block times and other factors. The FAA has been working with the airport operators, airlines, and other stakeholders to develop plans to utilize available capacity and mitigate delays during construction.

JFK will have construction in 2017 on Runway 4R/22L. The Port Authority of New York and New Jersey (PANYNJ), the airport operator, is currently considering the scope and staging plans for rehabilitation of the runway and expects to soon finalize plans. Depending on the final construction schedule, the runway may be closed beginning approximately February 27. The closure and other construction impacts could affect operations during the last few weeks of the winter 2016 scheduling season and into the summer 2017 and winter 2017 scheduling seasons.

LAX will undergo construction on Runway 7L/25R for runway safety areas and rehabilitation beginning in October 2016. Los Angeles World Airports (LAWA), the airport operator, expects to shorten the runway in October for approximately 3.5 months followed by a four month closure from January to May 2017.

On April 6, the FAA announced in the Federal Register (81 FR 19861) that the EWR airport level designation will change from Level 3 to Level 2 effective with the winter 2016 scheduling season. Although there is available runway capacity throughout the day, the FAA strongly encourages carriers to propose reasonable schedules, recognizing there is limited runway and airport capacity available for new flights or existing flights retimed to certain hours. Carriers will be asked to consider alternative schedule times if proposed demand exceeds capacity, which is likely to occur during the busiest early morning, late afternoon, and evening hours.

The PANYNJ is considering the process for reviewing EWR gate and terminal availability. This is in addition to its previously established review under the IATA WSG process for Terminal B international passenger flights. The FAA expects to work with the PANYNJ as it considers gate and terminal availability and how that might impact the FAA's review of schedules for runway availability. Carriers should submit information directly to the PANYNJ for airport terminal or gate issues.

The FAA reviewed the historical airport runway capacity levels over several years of operations including hourly data for each weekday. This analysis considered the actual air traffic control (ATC) established arrival and departure rates, the number of actual operations in an hour if it exceeded the projected ATC rate for that particular hour, runway configurations, weather, aircraft fleet mix, and other operating conditions. For the winter months, the data show the average hourly runway adjusted capacity for the previous similar winter seasons is approximately 79 total operations. The limit FAA established in the EWR Order in 2007, which was derived using peak summer data, was intended to prevent delays from getting worse than 2007 levels. Although the adjusted capacity for winter 2016 is below the previously established limit it is reflective of recent operational data in the similar previous season and would allow the FAA to approve additional operations over the number operated in winter 2015.

The FAA will use the following EWR capacities for scheduled flights during the winter 2016 season, reflecting average airport runway statistics during the recent winter scheduling seasons.³ The limits for purposes of Level 2 review are 79 scheduled operations per hour, 43 in a half-hour, 79 in consecutive half-hours, and 231 in rolling three-hour periods. The FAA believes that a transition from Level 3 to Level 2 should consider the need for air traffic control facilities and the airport terminal and gate infrastructure to adapt to the expected increase in operations. The three hour limitation will allow a higher number of flights in some hours while also allowing for system recovery. In reviewing proposed schedules, the FAA will also consider the distribution of scheduled arrivals and departures within a half-hour or hour and whether there is significant peaking due to the distribution of flights within the period. The FAA may seek adjustments to proposed schedules to address congestion issues.

³ Unscheduled flights are not included in the FAA Level 2 schedule review process or hourly scheduling limits. Unscheduled flights include general aviation, business aviation, military, public aircraft, ferry and positioning flights, and ad hoc charter operations. Regularly conducted commercial services, including public charters, are considered scheduled operations for the purposes of FAA's Level 2 review.

As it has in prior scheduling seasons, the FAA will use the average hourly runway capacities at LAX, ORD, and SFO. The FAA may include particular emphasis or review for time periods with current or projected operational impacts and discuss the reasons for any proposed schedule adjustments directly with affected carriers. LAX capacity estimates for the runway construction phases in later 2016 and 2017 have been presented to carriers during LAX construction meetings. These rates have not been finalized and will be reviewed with carriers on a local level during upcoming meetings.

The FAA intends to deny approval for carrier schedules that exceed capacity with limited exceptions. These exceptions may include flights operated only a relatively short time period in the prior season, ad hoc or limited term cargo flights such as those operated in past years prior to the Christmas holidays, and flights to meet high demand such as Thanksgiving, Christmas, or similar periods. The FAA will primarily review schedules for runway capacity on a half-hourly basis, allowing flexibility for carrier schedules within those windows without the need for additional FAA schedule review.

Issued in Washington, DC, on May 6, 2016.
Daniel E. Smiley,
Vice President, System Operations Services.

[FR Doc. 2016-11116 Filed 5-10-16; 8:45 am]

BILLING CODE 4910-13-P